DEPARTMENT OF LABOR

Employment and Training Administration

[TA-W-59,940]

Liberty Throwing Co., Inc., Kingston, PA; Notice of Revised Determination on Reconsideration

By application of October 24, 2006 a company official requested administrative reconsideration of the Department's negative determination regarding eligibility for workers and former workers of the subject firm to apply for Trade Adjustment Assistance (TAA) and Alternative Trade Adjustment Assistance (ATAA).

The initial investigation resulted in a negative determination signed on September 26, 2006 was based on the finding that imports of elastic yarn did not contribute importantly to worker separations at the subject plant and no shift of production to a foreign source occurred. The denial notice was published in the Federal Register on October 16, 2006 (71 FR 60763).

In the request for reconsideration, the petitioner provided additional information regarding the subject firm's customers and requested an investigation relating to secondary impact concerning the subject firm as an upstream supplier in the production of fabric. A review of the new facts determined that the workers of the subject firm may be eligible for TAA on the basis of a secondary upstream supplier impact.

The Department conducted an investigation of subject firm workers on the basis of secondary impact. It was revealed that Liberty Throwing Co., Inc., Kingston, Pennsylvania supplied elastic yarn that was used in the production of stretch fabric, and a loss of business with domestic manufacturers (whose workers were certified eligible to apply for adjustment assistance) contributed importantly to the workers separation or threat of separation.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that all workers of Liberty Throwing Co., Inc., Kingston, Pennsylvania qualify as adversely affected secondary workers under Section 222 of the Trade Act of 1974, as amended. In accordance with the provisions of the Act, I make the following certification:

All workers of Liberty Throwing Co, Inc., Kingston, Pennsylvania, who became totally or partially separated from employment on or after August 22, 2005, through two years from the date of this certification, are eligible to apply for adjustment assistance under Section 223 of the Trade Act of 1974, and are eligible to apply for alternative trade adjustment assistance under Section 246 of the Trade Act of 1974.

Dated: November 30, 2006.
Elliott S. Kushner,
Certifying Officer, Division of Trade Adjustment Assistance.

[FR Doc. E6-20834 Filed 12-7-06; 8:45 am]

BILLING CODE 4510-30-P